DEPARTMENT OF HOMELAND SECURITY

Coast Guard

[Docket No. USCG-2021-0306]

Policy Letter for Night Watch Monitoring Devices on Small Passenger Vessels, Interim Rule Clarification

AGENCY: Coast Guard, Department of Homeland Security.

ACTION: Notice of availability.

SUMMARY: The Coast Guard announces the availability of Office of Engineering and Design Standards (CG-ENG) Policy Letter 02-25, titled “Watch Monitoring Devices on Small Passenger Vessels, Interim Rule Clarification.” The policy letter describes how the U.S. Coast Guard will enforce the night watch monitoring device requirements added by the Fire Safety of Small Passenger Vessels interim rule.

DATES: The policy letter announced in this notice was issued on July 29, 2025.

ADDRESSES: Items mentioned as being available in the docket, including CG-ENG Policy Letter 02-25 and the interim rule, can be found on https://www.regulations.gov. Search for docket number “USCG-2021-0306”.

FOR FURTHER INFORMATION CONTACT: For information about this document call or email Lieutenant Commander Shannon Andrew, Office of Engineering and Design Standards (CG-ENG), 202-372-1384, Shannon.L.Andrew@uscg.mil.

SUPPLEMENTARY INFORMATION:

Discussion

The Coast Guard announces the availability of CG-ENG Policy Letter 02-25. The new policy clarifies the Coast Guard's interpretation of regulatory changes for night watch monitoring devices promulgated in the interim rule titled, Fire Safety of Small Passenger Vessels, published December 27, 2021 (86 FR 73160).

The interim rule implemented requirements mandated by the Elijah E. Cummings Coast Guard Authorization Act of 2020, which amended title 46 U.S. Code section 3306(n). Section 3306(n) directs the Secretary of Homeland Security to prescribe fire safety regulations for “covered small passenger vessels,” defined as small passenger vessels with overnight accommodations for passengers or operating on an oceans or coastwise route, excluding fishing vessels and ferries.

In particular, the interim rule required covered small passenger vessels to meet the requirements in 46 CFR 122.410 and 185.410 for night watch monitoring devices. CG-ENG developed Policy Letter 02-25 to provide clarity and uniformity to the enforcement of those sections.

A copy of CG-ENG Policy Letter 02-25 issued on July 29, 2025 is available in the docket where indicated in the ADDRESSES section of this document and on CG-ENG's website, at https://www.dco.uscg.mil/ENG/Policy.

This notice is issued under authority of 5 U.S.C. 552(a) and 46 U.S.C. 3306(n).

J.R. Doherty,
Captain, U.S. Coast Guard, Chief, Office of Engineering and Design Standards.

[FR Doc. 2025-16844 Filed 9-2-25; 8:45 am]

BILLING CODE 9110-04-P